FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011346-015.

Title: Israel Trade Conference Agreement.

Parties: A.P. Moller-Maersk A/S; Farrell Lines, Inc.; P&O Nedlloyd Limited; and Zim Integrated Shipping Services, Ltd.

Filing Party: Wayne R. Rohde, Esq.; Sher & Blackwell; 1850 M Street, NW., Suite 900, Washington, DC 20036.

Synopsis: The agreement adds A.P. Moller-Maersk A/S as a party to the agreement.

By Order of the Federal Maritime Commission.
Dated: December 23, 2005.
Bryant L. VanBrakle,
Secretary.

[FR Doc. E5-8007 Filed 12-28-05; 8:45 am]

BILLING CODE 6730-01-P